DEPARTMENT OF ENERGY

Federal Energy Regulatory Commission

Combined Notice of Filings #1

March 18, 2008.

Take notice that the Commission received the following exempt wholesale generator filings:

Docket Numbers: EG08-50-000.

Applicants: EFS Parlin Holdings LLC.

Description: Self Certification Notice of EFS Parlin Holdings LLC.

Filed Date: 03/14/2008.

Accession Number: 20080314-5082.

Comment Date: 5 p.m. Eastern Time on Friday, April 04, 2008.

Take notice that the Commission received the following electric rate filings:

Docket Numbers: ER01-2214-010.

Applicants: Entergy Services, Inc.

Description: Entergy Services, Inc. submits its refund report related to refunds ordered by FERC.

Filed Date: 03/12/2008.

Accession Number: 20080314-0126.

Comment Date: 5 p.m. Eastern Time on Wednesday, April 02, 2008.

Docket Numbers: ER06-18-012.

Applicants: Midwest Independent Transmission System.

Description: Midwest Independent Transmission System Operator Inc. submits proposed revisions to their Open Access Transmission and Energy Markets Tariff to comply with FERC's 2/12/08 Order.

Filed Date: 03/13/2008.

Accession Number: 20080317-0073.

Comment Date: 5 p.m. Eastern Time on Thursday, April 03, 2008.

Docket Numbers: ER07-521-002.

Applicants: New York Independent System Operator, Inc.

Description: Status Report of New York Independent System Operator, Inc. Regarding Its Compliance With “Guideline Three” of the Commission's Rules on Long-Term Transmission Rights in Organized Markets.

Filed Date: 03/12/2008.

Accession Number: 20080312-5013.

Comment Date: 5 p.m. Eastern Time on Wednesday, April 02, 2008.

Docket Numbers: ER07-1172-003; ER07-1315-003.

Applicants: Idaho Power Company.

Description: Idaho Power Co. submits Substitute First Revised Sheet 82-A et al. to FERC Electric Tariff, First Revised Volume 6, effective 9/4/07.

Filed Date: 03/17/2008.

Accession Number: 20080318-0016.

Comment Date: 5 p.m. Eastern Time on Monday, April 07, 2008.

Docket Numbers: ER08-80-000.

Applicants: The Detroit Edison Company.

Description: Arizona Public Service Co. submits their compliance filing, with changes to its Fourteenth Revised Volume 2 Open Access Transmission Tariff.

Filed Date: 03/17/2008.

Accession Number: 20080318-0058.

Comment Date: 5 p.m. Eastern Time on Monday, April 07, 2008.

Docket Numbers: ER08-245-001.

Applicants: PacifiCorp.

Description: PacifiCorp submits a refund report in accordance with the Commission Letter Order issued on 1/15/08.

Filed Date: 03/14/2008.

Accession Number: 20080318-0005.

Comment Date: 5 p.m. Eastern Time on Friday, April 04, 2008.

Docket Numbers: ER08-334-001.

Applicants: New York Independent System Operator, Inc.

Description: New York Independent System Operator, Inc. submits proposed revisions to its Open Access Transmission Tariff etc. in compliance with FERC's 2/18/08 Order.

Filed Date: 03/12/2008.

Accession Number: 20080314-0101.

Comment Date: 5 p.m. Eastern Time on Wednesday, April 02, 2008.

Docket Numbers: ER08-337-002.

Applicants: Watson Cogeneration Company.

Description: Watson Cogeneration Company submits revised asset appendix to its market-based rate application that includes a description of the energy assets owned or controlled by EME and SCE.

Filed Date: 03/13/2008.

Accession Number: 20080317-0075.

Comment Date: 5 p.m. Eastern Time on Thursday, April 03, 2008.

Docket Numbers: ER08-364-002.

Applicants: APX, Inc.

Description: APX, Inc. submits proposed revisions to its FERC Electric Tariff, First Revised Volume 10.

Filed Date: 03/14/2008.

Accession Number: 20080318-0007.

Comment Date: 5 p.m. Eastern Time on Friday, April 04, 2008.

Docket Numbers: ER08-494-001.

Applicants: PJM Interconnection, L.L.C.

Description: PJM Interconnection, LLC resubmits the corrected interconnection service agreement with Lookout WindPower, LLC et al.

Filed Date: 03/12/2008.

Accession Number: 20080314-0103.

Comment Date: 5 p.m. Eastern Time on Wednesday, April 02, 2008.

Docket Numbers: ER08-506-001.

Applicants: Southern Company Services, Inc.

Description: Southern Companies et al submits an Amendment to their filing made on 1/31/08 of an unexecuted network integration transmission service agreement and network operating agreement with Florida Public Co.

Filed Date: 03/13/2008.

Accession Number: 20080317-0074.

Comment Date: 5 p.m. Eastern Time on Thursday, April 03, 2008.

Docket Numbers: ER08-541-001.

Applicants: American Electric Power Service Corporation.

Description: The American Electric Power Service Corp on behalf of the AEP Operating Companies submits an amendment to the Revised Interconnection and Local Delivery Service Agreement 1448.

Filed Date: 03/17/2008.

Accession Number: 20080318-0015.

Comment Date: 5 p.m. Eastern Time on Monday, April 07, 2008.

Docket Numbers: ER08-657-000.

Applicants: American Electric Power Service Corporation.

Description: American Electric Power Service Corp submits amendments to FERC Electric Tariff, Third Revised Volume 6.

Filed Date: 03/12/2008.

Accession Number: 20080314-0102.

Comment Date: 5 p.m. Eastern Time on Wednesday, April 02, 2008.

Docket Numbers: ER08-658-000.

Applicants: PJM Interconnection, L.L.C.

Description: PJM Interconnection, LLC submits an executed Wholesale Market Participation Agreement with Wenning Poultry et al.

Filed Date: 03/13/2008.

Accession Number: 20080314-0110.

Comment Date: 5 p.m. Eastern Time on Thursday, April 03, 2008.

Docket Numbers: ER08-659-000.

Applicants: Kentucky Utilities Company.

Description: Kentucky Utilities Co submits Exhibit A, an executed copy of Amendment 1 to Contract for Electric Service with Bardstown Municipal Electric Light & Power.

Filed Date: 03/13/2008.

Accession Number: 20080314-0109.

Comment Date: 5 p.m. Eastern Time on Thursday, April 03, 2008.

Docket Numbers: ER08-660-000.

Applicants: PJM Interconnection L.L.C.

Description: PJM Interconnection, LLC submits an executed Wholesale Market Participation Agreement with Bethlehem Renewable Energy, LLC et al.Filed Date: 03/13/2008.

Accession Number: 20080314-0108.

Comment Date: 5 p.m. Eastern Time on Thursday, April 03, 2008.

Docket Numbers: ER08-661-000.

Applicants: PacifiCorp.

Description: PacifiCorp submits First Revised Service Agreement 66 for Network Integration Transmission Service between PacifiCorp Energy and PacifiCorp Transmission.

Filed Date: 03/12/2008.

Accession Number: 20080314-0107.

Comment Date: 5 p.m. Eastern Time on Wednesday, April 02, 2008.

Docket Numbers: ER08-662-000.

Applicants: UniSource Energy Development Company.

Description: UniSource Energy Development Co submits a power sales agreement with UNS Electric, Inc.

Filed Date: 03/12/2008.

Accession Number: 20080314-0127.

Comment Date: 5 p.m. Eastern Time on Wednesday, April 02, 2008.

Docket Numbers: ER08-663-000.

Applicants: Nevada Power Company.

Description: Nevada Power Co submits a notice of cancellation of as Service Agreement for Network Integration Transmission Service with the City of Needles.

Filed Date: 03/13/2008.

Accession Number: 20080314-0106.

Comment Date: 5 p.m. Eastern Time on Thursday, April 03, 2008.

Docket Numbers: ER08-664-000.

Applicants: Midwest Independent Transmission System.

Description: Midwest Independent Transmission System Operator, Inc et al submits proposed revisions to Appendix C, Section III.B of the Agreement of Transmission Facilities Owners etc.

Filed Date: 03/13/2008.

Accession Number: 20080314-0105.

Comment Date: 5 p.m. Eastern Time on Thursday, April 03, 2008.

Docket Numbers: ER08-665-000.

Applicants: Eastland Power LLC.

Description: Eastland Power LLC submits an application for market-based authority, request for certain waivers, blanket authorizations and a request for expedited treatment.

Filed Date: 03/13/2008.

Accession Number: 20080314-0104.

Comment Date: 5 p.m. Eastern Time on Thursday, April 03, 2008.

Docket Numbers: ER08-666-000.

Applicants: NRG Southaven LLC.

Description: Application of NRG Southaven LLC for market-based rate authority, expedited action, associated waivers, blanket approvals and notification of price reporting status.

Filed Date: 03/12/2008.

Accession Number: 20080314-0111.

Comment Date: 5 p.m. Eastern Time on Wednesday, April 02, 2008.

Docket Numbers: ER08-667-000.

Applicants: Duke Energy Carolinas, LLC.

Description: Duke Energy Carolinas LLC submits a revised Network Integration Service Agreement for Network Integration Transmission Service with Piedmont Municipal Power Agency.

Filed Date: 03/13/2008.

Accession Number: 20080317-0071.

Comment Date: 5 p.m. Eastern Time on Thursday, April 03, 2008.

Docket Numbers: ER08-668-000.

Applicants: Entergy Services, Inc.

Description: Entergy Louisiana LLC et al submits the First Revised Service Agreement 453 and Amended Interconnection and Operating Agreement ELL and EAI for the 789 natural gas fired combined-cycle.

Filed Date: 03/13/2008.

Accession Number: 20080317-0072.

Comment Date: 5 p.m. Eastern Time on Thursday, April 03, 2008.

Docket Numbers: ER08-669-000.

Applicants: American Electric Power Service Corporation.

Description: American Electric Power Service Corporation submits amendments to the Open Access Transmission Tariff on file with FERC their FERC Electric Tariff, Third Revised Volume 6.

Filed Date: 03/13/2008.

Accession Number: 20080317-0070.

Comment Date: 5 p.m. Eastern Time on Thursday, April 03, 2008.

Docket Numbers: ER08-676-000.

Applicants: Winnebago Windpower LLC.

Description: Application of Winnebago Windpower LLC for order accepting initial tariff etc.

Filed Date: 03/17/2008.

Accession Number: 20080318-0014.

Comment Date: 5 p.m. Eastern Time on Monday, April 07, 2008.

Take notice that the Commission received the following electric securities filings:

Docket Numbers: ES08-32-001.

Applicants: Noble Bellmont Windpark, LLC.

Description: Noble Bellmont Windpark, LLC et al submits a joint application for authorization to guarantee obligations related to debt financing of the wind energy projects being developed.

Filed Date: 03/14/2008.

Accession Number: 20080318-0048.

Comment Date: 5 p.m. Eastern Time on Monday, March 24, 2008.

Take notice that the Commission received the following open access transmission tariff filings:

Docket Numbers: OA08-67-000.

Applicants: Progress Energy, Inc.

Description: Order No. 890-A Compliance Filing of Progress Energy, Inc. on behalf of Carolina Power & Light Co. and Florida Power Corp. updating their Joint OATT.

Filed Date: 03/17/2008.

Accession Number: 20080317-5029.

Comment Date: 5 p.m. Eastern Time on Monday, April 07, 2008.

Docket Numbers: OA08-68-000.

Applicants: Cleco Power LLC.

Description: Cleco Power LLC submits its order 890-A compliance filing, refiling its entire OATT, redesignated as FERC Electric Tariff, Fourth Revised Volume 1, to be effective 3/17/08.

Filed Date: 03/17/2008.

Accession Number: 20080317-4000.

Comment Date: 5 p.m. Eastern Time on Monday, April 07, 2008.

Docket Numbers: OA08-69-000.

Applicants: Tucson Electric Power Company.

Description: Order No. 890-A OATT Filing of Tucson Electric Power Company.

Filed Date: 03/17/2008.

Accession Number: 20080317-5041.

Comment Date: 5 p.m. Eastern Time on Monday, April 07, 2008.

Docket Numbers: OA08-70-000.

Applicants: UNS Electric, Inc.

Description: UNS Electric, Inc submits revised Open Access Transmission Tariff sheets as Exhibit A pursuant to Section 206 of the FPA and Order No. 890-A.

Filed Date: 03/17/2008.

Accession Number: 20080317-5042.

Comment Date: 5 p.m. Eastern Time on Monday, April 07, 2008.

Docket Numbers: OA08-71-000.

Applicants: Xcel Energy Services, Inc.

Description: Xcel Energy Services, Inc submits revised tariff sheets to their Joint Open Access Transmission Tariff pursuant to Order 890-A.

Filed Date: 03/17/2008.

Accession Number: 20080317-5047.

Comment Date: 5 p.m. Eastern Time on Monday, April 07, 2008.

Docket Numbers: OA08-72-000.

Applicants: NORTHWESTERN CORP.

Description: Order No. 890 OATT Filing of Northwestern Corporation.

Filed Date: 03/17/2008.

Accession Number: 20080317-5048.

Comment Date: 5 p.m. Eastern Time on Monday, April 07, 2008.

Docket Numbers: OA08-73-000.

Applicants: Puget Sound Energy, Inc.

Description: Order No. 890 OATT Filing of Puget Sound Energy, Inc.

Filed Date: 03/17/2008.

Accession Number: 20080317-5049.

Comment Date: 5 p.m. Eastern Time on Monday, April 07, 2008.

Docket Numbers: OA08-74-000.

Applicants: Tampa Electric Company.

Description: Tampa Electric Company submits revisions to its Open Access Transmission Tariff pursuant to Order 890-A.

Filed Date: 03/17/2008.

Accession Number: 20080317-5050.

Comment Date: 5 p.m. Eastern Time on Monday, April 07, 2008.

Docket Numbers: OA08-75-000.

Applicants: Entergy Services, Inc.

Description: Order No. 890-A Compliance Filing of Entergy Services, Inc.

Filed Date: 03/17/2008.

Accession Number: 20080317-5061.

Comment Date: 5 p.m. Eastern Time on Monday, April 07, 2008.

Docket Numbers: OA08-76-000.

Applicants: E.ON U.S. LLC; Kentucky Utilities Company; Louisville Gas & Electric Company.

Description: Order No. 890-A OATT Filing of E.ON U.S. LLC on behalf of Louisville Gas and Electric Co. and Kentucky Utilities Co.

Filed Date: 03/17/2008.

Accession Number: 20080317-5062.

Comment Date: 5 p.m. Eastern Time on Monday, April 07, 2008.

Docket Numbers: OA08-77-000.

Applicants: Florida Power & Light Company.

Description: Order No. 890-A OATT Filing of Florida Power & Light Company.

Filed Date: 03/17/2008.

Accession Number: 20080317-5065.

Comment Date: 5 p.m. Eastern Time on Monday, April 07, 2008.

Docket Numbers: OA08-78-000.

Applicants: MidAmerican Energy Company.

Description: MidAmerican Energy Company submits revised tariff sheets to conform its Open Access Transmission Tariff (OATT?) to the Order No. 890-A pro formal OATT MidAmerican Energy requests an effective date of March 17, 2008.

Filed Date: 03/17/2008.

Accession Number: 20080317-5074.

Comment Date: 5 p.m. Eastern Time on Monday, April 07, 2008.

Docket Numbers: OA08-79-000.

Applicants: Southern Company Services, Inc.

Description: Order No. 890-A OATT Compliance Filing of Southern Company Services, Inc.

Filed Date: 03/17/2008.

Accession Number: 20080317-5076.

Comment Date: 5 p.m. Eastern Time on Monday, April 07, 2008.

Docket Numbers: OA08-81-000.

Applicants: NorthWestern Corporation.

Description: NorthWestern Corporation Order No. 890-A compliance filing for its South Dakota OATT FERC Electric Tariff, Second Revised Volume No. 2 (SD).

Filed Date: 03/17/2008.

Accession Number: 20080317-5088.

Comment Date: 5 p.m. Eastern Time on Monday, April 07, 2008.

Docket Numbers: OA08-82-000.

Applicants: Avista Corporation.

Description: Order 890-A Compliance filing of Avista Corporation. Transmittal letter and Clean and Redline versions of Avista's OATT.

Filed Date: 03/17/2008.

Accession Number: 20080317-5090.

Comment Date: 5 p.m. Eastern Time on Monday, April 07, 2008.

Docket Numbers: OA08-83-000.

Applicants: Idaho Power Company.

Description: Order No. 890 OATT Filing of Idaho Power Company.

Filed Date: 03/17/2008.

Accession Number: 20080317-5092.

Comment Date: 5 p.m. Eastern Time on Monday, April 07, 2008.

Docket Numbers: OA08-84-000.

Applicants: Deseret Generation & Transmission Co-op.

Description: Order No. 890 OATT Filing of Deseret Generation & Transmission Co-operative, Inc.

Filed Date: 03/17/2008.

Accession Number: 20080317-5107.

Comment Date: 5 p.m. Eastern Time on Monday, April 07, 2008.

Docket Numbers: OA08-85-000.

Applicants: Sierra Pacific Resources Operating Company.

Description: Order No. 890-A OATT Compliance Filing of Sierra Pacific Resources Operating Companies.

Filed Date: 03/17/2008.

Accession Number: 20080317-5110.

Comment Date: 5 p.m. Eastern Time on Monday, April 07, 2008.

Docket Numbers: OA08-86-000.

Applicants: Maine Public Service Company.

Description: Order No. 890 OATT Filing of Maine Public Service Company.

Filed Date: 03/17/2008.

Accession Number: 20080317-5115.

Comment Date: 5 p.m. Eastern Time on Monday, April 07, 2008.

Docket Numbers: OA08-87-000.

Applicants: NewCorp Resources Electric Cooperative.

Description: Order No. 890 OATT Filing of NewCorp Resources Electric Cooperative, Inc.

Filed Date: 03/17/2008.

Accession Number: 20080317-5116.

Comment Date: 5 p.m. Eastern Time on Monday, April 07, 2008.

Docket Numbers: OA08-88-000.

Applicants: PacifiCorp.

Description: Order No. 890-A OATT Filing of PacifiCorp.

Filed Date: 03/17/2008.

Accession Number: 20080318-5003.

Comment Date: 5 p.m. Eastern Time on Monday, April 07, 2008.

Docket Numbers: OA08-89-000.

Applicants: Mid-Continent Area Power Pool.

Description: Order No. 890-A OATT Filing of Mid-Continent Area Power Pool.

Filed Date: 03/17/2008.

Accession Number: 20080318-5004.

Comment Date: 5 p.m. Eastern Time on Monday, April 07, 2008.

Docket Numbers: OA08-90-000; OA07-44-002.

Applicants: El Paso Electric Company.

Description: El Paso Electric Company's Order Nos. 890 and 890-A Compliance Filings.

Filed Date: 03/17/2008.

Accession Number: 20080318-5005.

Comment Date: 5 p.m. Eastern Time on Monday, April 07, 2008.

Docket Numbers: OA08-91-000.

Applicants: Black Hills Power, Inc.; Powder River Energy Corp; Basin Electric Power Cooperative, Inc.

Description: Order No. 890-A OATT Filing of Black Hills Power, Inc., Basin Electric Power Cooperative, Inc., and Powder River Energy Corporation.

Filed Date: 03/17/2008.

Accession Number: 20080318-5006.

Comment Date: 5 p.m. Eastern Time on Monday, April 07, 2008.

Docket Numbers: OA08-92-000.

Applicants: Entergy Services Inc.

Description: Motion of Entergy Services, Inc. For Limited Waiver of Order No. 890-A Compliance Requirement.

Filed Date: 03/17/2008.

Accession Number: 20080318-5027.

Comment Date: 5 p.m. Eastern Time on Monday, April 07, 2008.

Docket Numbers: OA08-93-000; OA07-111-001.

Applicants: South Carolina Electric & Gas Company.

Description: Order No. 890-A OATT Filing of South Carolina Electric & Gas Company.

Filed Date: 03/18/2008.

Accession Number: 20080318-5032.

Comment Date: 5 p.m. Eastern Time on Tuesday, April 08, 2008.

Take notice that the Commission received the following electric reliability filings:

Docket Numbers: RR07-16-002.

Applicants: North American Electric Reliability Corp.

Description: Corrected Filing—Request of North American Electric Reliability Corporation for Approval of Amendment to 2008 Business Plan and Budget of Western Electricity Coordinating Council.

Filed Date: 03/17/2008.

Accession Number: 20080318-5017.

Comment Date: 5 p.m. Eastern Time on Friday, March 28, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC.

There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-6137 Filed 3-25-08; 8:45 am]

BILLING CODE 6717-01-P